DEPARTMENT OF HEALTH AND HUMAN SERVICES

Administration for Children and Families

Submission for OMB Review; Comment Request

Title: IV-E Foster Care and Adoption Assistance Financial Report (IV-E-1).

OMB No.: 0970-0205.

Titled: Financial Reporting Form.

Description: This form is used by states, the District of Columbia and Puerto Rico9 to facilitate the reporting of expenditures for the Foster Care and Adoption Assistance programs. State agencies (including the District of Columbia and Puerto Rico) use this form to report data on a quarterly basis. The form provides specific data regarding financial disbursements, obligations and estimates. It provides states with a mechanism to request grant awards and certify the availability of state matching funds. Failure to collect this data would seriously compromise the Administration for Children and Families' (ACF) ability to issue grant awards monitor expenditures. This form is also used to prepare the ACF budget submission to Congress. ACF is implementing the On-Line Data Collection System (OLDC) to allow grantees the option to electronically submit the data.

Respondents: States, District of Columbia and Puerto Rico Annual Burden Estimates.

Instrument | Number of respondents | Number of responses per respondent (per year) | Average burden hours per response | Total burden hours
IV-E 1 | 52 | 4 | 24.5 | 5,096
IV-E-1 Proj. | 52 | 2 | 1 | 104

Estimated Total Annual Burden Hours: 5,200.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: November 16, 2004.
Robert Sargis,
Reports Clearance Officer.

[FR Doc. 04-25892 Filed 11-22-04; 8:45 am]

BILLING CODE 4184-01-M